DEPARTMENT OF HOMELAND SECURITY

Coast Guard

33 CFR Part 117

[USCG-2009-0234]

Drawbridge Operation Regulations; Intracoastal Waterway (ICW); Albany Avenue, Atlantic City, NJ

AGENCY: Coast Guard, DHS.

ACTION: Notice of temporary deviation from regulations.

SUMMARY: The Commander, Fifth Coast Guard District, has issued a temporary deviation from the regulations governing the operation of the US40-322 Albany Avenue Bridge, at ICW mile 70.0, across Inside Thorofare at Atlantic City, NJ. This deviation is necessary to facilitate traffic control during the Atlantic City Air Show. This deviation will cause the bridge to be maintained in the closed-to-navigation position for a brief period of time.

DATES: This deviation is effective from 10 a.m. to 5 p.m. on August 19, 2009.

ADDRESSES: Documents indicated in this preamble as being available in the docket are part of docket USCG-2009-0234 and are available online at www.regulations.gov. They are also available for inspection or copying at two locations: the Docket Management Facility (M-30), U.S. Department of Transportation, West Building Ground Floor, Room W12-140, 1200 New Jersey Avenue SE, Washington, DC 20590, between 9 a.m. and 5 p.m., Monday through Friday, except Federal holidays, and the Commander (dpb), Fifth Coast Guard District, Federal Building, 1st Floor, 431 Crawford Street, Portsmouth, VA 23704-5004 between 8 a.m. and 4 p.m., Monday through Friday, except Federal holidays.

FOR FURTHER INFORMATION CONTACT: Mrs. Sandra S. Elliott, Bridge Management Specialist, Fifth Coast Guard District, at (757) 398-6557.

SUPPLEMENTARY INFORMATION: The Greater Atlantic City Chamber of Commerce on behalf of the bridge owner, the New Jersey Department of Transportation, has requested a temporary deviation for the current operating regulation set out in 33 CFR 117.733 (f) to close the US40-322 (Albany Avenue) Bridge to navigation for the sole purpose of traffic control during the Atlantic City Air Show scheduled for Wednesday, August 19, 2009, from 10 a.m. to 5 p.m.

The US40-322 (Albany Avenue Bridge) at ICW mile 70.0, across Inside Thorofare at Atlantic City, NJ, is a lift drawbridge and has a vertical clearance in the closed position of 10 feet, above mean high water. The current operating regulation set out in 33 CFR 117.733 (f) requires the draw shall open on signal except that: Year-round from 11 p.m. to 7 a.m. and from November 1 through March 31 from 3 p.m. to 11 p.m., the draw need only open if at least four hours notice is given, From June 1 through September 30: from 9 a.m. to 4 p.m. and from 6 p.m. to 9 p.m., the draw need only open on the hour and half hour; and from 4 p.m. to 6 p.m., the draw need not open.

During the event, vessel operators with mast height lower than 10 feet will continue to be able to transit through the drawbridge. The Atlantic Ocean is an alternate route for vessels with a mast height greater than 10 feet. In the event of a maritime emergency, the drawbridge will be available for vessel openings.

The Coast Guard will inform the users of the waterway through our Local and Broadcast Notices to Mariners of the closure period for the bridge so that vessels can arrange their transits and to minimize any impact caused by the temporary deviation.

In accordance with 33 CFR 117.35(e), the drawbridge must return to its regular operating schedule immediately at the end of the designated time period. This deviation from the operating regulations is authorized under 33 CFR 117.35.

Dated: April 1, 2009.
Waverly W. Gregory, Jr.,
Chief, Bridge Administration Branch Fifth Coast Guard District.

[FR Doc. E9-8618 Filed 4-14-09; 8:45 am]

BILLING CODE 4910-15-P